DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 18, 2008.

Interested persons are invited to submit written comments regarding the subject matter of the investigations to the Director, Division of Trade Adjustment Assistance, at the address shown below, not later than August 18, 2008.

The petitions filed in this case are available for inspection at the Office of the Director, Division of Trade Adjustment Assistance, Employment and Training Administration, U.S. Department of Labor, Room C-5311, 200 Constitution Avenue, NW., Washington, DC 20210.

Signed at Washington, DC, this 31st day of July 2008.
Linda G. Poole,
Certifying Officer, Division of Trade Adjustment Assistance.

Appendix
[TAA petitions instituted between 7/21/08 and 7/25/08]
TA-W | Subject firm (petitioners) | Location | Date of institution | Date of petition
63711 | Lear Corporation (UAW) | Fenton, MI | 07/21/08 | 07/17/08
63712 | Gentry Mills, Inc. (Comp) | Albermarle, NC | 07/21/08 | 07/18/08
63713 | Canterbury Printing Company of Rome Incorporated (Comp) | Rome, NY | 07/21/08 | 07/17/08
63714 | Publishers Circulation Fulfillment (State) | Waltham, MA | 07/21/08 | 07/16/08
63715 | Quality Logistics Systems, Inc. (Comp) | DePere, WI | 07/21/08 | 07/16/08
63716 | Kim Taylor/Woodbridge Corporation (Union) | Brodhead, WI | 07/21/08 | 07/16/08
63717 | Auxora Wavelength Management & Control (Rep) | Baldwin Park, CA | 07/21/08 | 07/14/08
63718 | Martinrea Heavy Stampings, Inc. (State) | Shelbyville, KY | 07/21/08 | 07/11/08
63719 | 3M Precision Optics (Wkrs) | Cincinnati, OH | 07/21/08 | 07/18/08
63720 | Alvan Motor Freight, Inc. (Wkrs) | Kalamazoo, MI | 07/21/08 | 07/17/08
63721 | Hutchinson FTS, Inc. (Comp) | Livingston, TN | 07/21/08 | 07/17/08
63722 | California Professional Dyework, Inc. (Wkrs) | City of Industry, CA | 07/21/08 | 07/18/08
63723 | General Motors Powertrain Massena Castings (UAW) | Massena, NY | 07/21/08 | 07/16/08
63724 | JIT Manufacturing, Inc. (Comp) | Westfield, MA | 07/22/08 | 07/16/08
63725 | Superior Sample Company (Wkrs) | Rochester, IN | 07/22/08 | 07/11/08
63726 | Quebecor World (Wkrs) | Merced, CA | 07/22/08 | 07/21/08
63727 | Select Industries (Wkrs) | Dayton, OH | 07/22/08 | 07/16/08
63728 | Leggett and Platt (AFLCIO) | Nashville, TN | 07/22/08 | 07/21/08
63729 | Manugraph DGM, Inc. (Comp) | Millersburg, PA | 07/23/08 | 07/23/08
63730 | Chesapeake Hardwood Products, Inc. (Comp) | Chesapeake, VA | 07/23/08 | 07/18/08
63731 | Progressive Molded Products, Inc. (Comp) | McAllen, TX | 07/23/08 | 07/22/08
63732 | Allied Tube & Conduit (State) | Pine Bluff, AR | 07/23/08 | 07/22/08
63733 | Center Manufacturing (UAW) | Bellevue, OH | 07/24/08 | 07/23/08
63734 | Compucom Systems, Inc. (Wkrs) | Morris Plains, NJ | 07/24/08 | 07/22/08
63735 | Hydraulic Technologies LLC (Wkrs) | Galion, OH | 07/24/08 | 07/20/08
63736 | Tempel Steel Company (Wkrs) | Chicago, IL | 07/24/08 | 07/21/08
63737 | Neison Plant 12 (Comp) | Lenoir, NC | 07/24/08 | 07/24/08
63738 | Mountain View Fabricating (Wkrs) | Mountain View, MO | 07/24/08 | 07/23/08
63739 | TRW Automotive—Body Control Systems North America (State) | Winona, MN | 07/24/08 | 07/22/08
63740 | All Wood Components, Inc. (Comp) | Union Gap, WA | 07/24/08 | 07/23/08
63741 | KLA-Tencor Corporation (Comp) | Tucson, AZ | 07/24/08 | 07/23/08
63742 | FCI USA, Inc. (Comp) | Novi, MI | 07/24/08 | 07/21/08
63743 | Vishay General Semiconductors (Comp) | Westbury, NY | 07/25/08 | 07/24/08
63744 | Alexvale Furniture/Kincaid Furniture Co.—Plant #1 (Comp) | Taylorsville, NC | 07/25/08 | 07/23/08
63745 | Simplicity Manufacturing, Inc. (AFLCIO) | Port Washington, WI | 07/25/08 | 07/24/08
63746 | Fibre Container Company, Inc. (Comp) | Martinsville, VA | 07/25/08 | 07/24/08
63747 | Hynix Semiconductor (Wkrs) | Eugene, OR | 07/25/08 | 07/24/08

[FR Doc. E8-18163 Filed 8-6-08; 8:45 am]

BILLING CODE 4510-FN-P